DEPARTMENT OF ENERGY

Federal Energy Regulatory Commission

Combined Notice of Filings #1

Take notice that the Commission received the following electric corporate filings:

Docket Numbers: EC24-98-000.

Applicants: UGI Development Company, Hunlock Energy, LLC, UGI Energy Services, LLC.

Description: Joint Application for Authorization Under Section 203 of the Federal Power Act of UGI Energy Services, LLC, et al.

Filed Date: 7/1/24.

Accession Number: 20240701-5457.

Comment Date: 5 p.m. ET 7/22/24.

Take notice that the Commission received the following exempt wholesale generator filings:

Docket Numbers: EG24-218-000.

Applicants: Shamrock Energy Storage, LLC.

Description: Shamrock Energy Storage, LLC submits Notice of Self-Certification of Exempt Wholesale Generator Status.

Filed Date: 7/2/24.

Accession Number: 20240702-5204.

Comment Date: 5 p.m. ET 7/23/24.

Take notice that the Commission received the following electric rate filings:

Docket Numbers: ER10-1521-016; ER10-1520-016; ER10-1522-010; ER20-2493-011.

Applicants: OTCF, LLC, Occidental Chemical Corporation, Occidental Power Services, Inc., Occidental Power Marketing, L.P.

Description: Triennial Market Power Analysis for Central Region of Occidental Power Marketing, L.P., et al.

Filed Date: 7/1/24.

Accession Number: 20240701-5456.

Comment Date: 5 p.m. ET 8/30/24.

Docket Numbers: ER10-2818-009; ER10-2806-009; ER13-2386-010.

Applicants: Lakeswind Power Partners, LLC, TransAlta Energy Marketing (U.S.) Inc., TransAlta Energy Marketing Corporation.

Description: Triennial Market Power Analysis for Central Region of TransAlta Energy Marketing Corporation, et al.

Filed Date: 6/28/24.

Accession Number: 20240628-5401.

Comment Date: 5 p.m. ET 8/27/24.

Docket Numbers: ER11-2105-006.

Applicants: Oklahoma Gas and Electric Company.

Description: Triennial Market Power Analysis for Southwest Power Pool Inc. Region of Oklahoma Gas and Electric Company.

Filed Date: 6/28/24.

Accession Number: 20240628-5398.

Comment Date: 5 p.m. ET 8/27/24.

Docket Numbers: ER13-738-012; ER10-1186-015; ER20-392-002; ER11-3097-016; ER20-393-002; ER23-1279-002.

Applicants: DTE Energy Services, Inc., DTE Garden Wind Farm, LLC, DTE Energy Trading, Inc., DTE Stoney Corners Wind Farm, LLC, DTE Energy Supply, LLC, DTE Electric Company.

Description: Triennial Market Power Analysis for Central Region of DTE Electric Company, et al.

Filed Date: 6/28/24.

Accession Number: 20240628-5397.

Comment Date: 5 p.m. ET 8/27/24.

Docket Numbers: ER17-1931-009; ER14-868-007; ER20-649-006; ER14-867-006; ER14-594-020; ER17-1930-009; ER17-1932-009.

Applicants: Southwestern Electric Power Company, Public Service Company of Oklahoma, Ohio Power Company, AEP Energy, Inc., AEP Energy Partners, Inc., AEP Retail Energy Partners, AEP Texas Inc.

Description: Triennial Market Power Analysis for Southwest Power Pool Inc. Region of AEP Texas Inc., et al.

Filed Date: 6/28/24.

Accession Number: 20240628-5402.

Comment Date: 5 p.m. ET 8/27/24.

Docket Numbers: ER19-1074-017; ER10-1427-011; ER12-645-029; ER19-529-017; ER19-1075-017; ER20-1806-007; ER22-192-009; ER22-1010-008; ER22-1883-005; ER23-2203-004; ER24-443-003.

Applicants: Deriva Energy Services, LLC, Wildflower Solar, LLC, Ledyard Windpower, LLC, TerraForm IWG Acquisition Holdings II, LLC, Evolugen Trading and Marketing LP, Catalyst Old River Hydroelectric Limited Partnership, Brookfield Renewable Energy Marketing US LLC, Brookfield Renewable Trading and Marketing LP, California Ridge Wind Energy LLC, Brookfield Energy Marketing LP, Brookfield Energy Marketing Inc.

Description: Triennial Market Power Analysis for Central Region of Brookfield Energy Marketing Inc., et al.

Filed Date: 6/28/24.

Accession Number: 20240628-5400.

Comment Date: 5 pm ET 8/27/24.

Docket Numbers: ER21-1755-009; ER23-1642-006; ER14-2498-017; ER14-2500-017.

Applicants: Newark Energy Center, LLC, EIF Newark, LLC, Stored Solar J&WE, LLC, Hartree Partners, LP.

Description: Triennial Market Power Analysis for Central Region of Hartree Partners, LP, et al.

Filed Date: 7/1/24.

Accession Number: 20240701-5461.

Comment Date: 5 p.m. ET 8/30/24.

Docket Numbers: ER23-52-003; ER23-277-003; ER23-1512-001.

Applicants: Westlake Natrium LLC, Westlake US 2 LLC, Westlake Chemicals & Vinyls LLC.

Description: Triennial Market Power Analysis for Central Region of Westlake Chemicals & Vinyls LLC, et al.

Filed Date: 6/28/24.

Accession Number: 20240628-5396.

Comment Date: 5 p.m. ET 8/27/24.

Docket Numbers: ER23-1846-004; ER11-4044-034; ER11-4046-033; ER21-2715-007; ER21-2716-007; ER23-2726-002; ER24-1576-002; ER24-1711-002.

Applicants: Split Rail Solar Energy LLC, Maple Flats Solar Energy Center LLC, Walnut Bend Solar LLC, Fairbanks Solar Holdings LLC, Fairbanks Solar Energy Center LLC, Gratiot County Wind II LLC, Gratiot County Wind LLC, Boomtown Solar Energy LLC.

Description: Triennial Market Power Analysis for Central Region of Boomtown Solar Energy LLC, et al.

Filed Date: 6/28/24.

Accession Number: 20240628-5404.

Comment Date: 5 p.m. ET 8/27/24.

Docket Numbers: ER24-2456-000.

Applicants: PJM Interconnection, L.L.C.

Description: 205(d) Rate Filing: Original WMPA No. 7298, AF2-077 to be effective 6/4/2024.

Filed Date: 7/3/24.

Accession Number: 20240703-5042.

Comment Date: 5 p.m. ET 7/24/24.

Docket Numbers: ER24-2457-000.

Applicants: AEP Texas Inc.

Description: 205(d) Rate Filing: AEPTX-LCRA TSC (Rio Pecos) Facilities Development Agreement to be effective 6/18/2024.

Filed Date: 7/3/24.

Accession Number: 20240703-5049.

Comment Date: 5 p.m. ET 7/24/24.

Docket Numbers: ER24-2458-000.

Applicants: AEP Texas Inc.

Description: Tariff Amendment: AEPTX-Oncor (Carbon) Facilities Development Agreement Cancellation to be effective 9/2/2024.

Filed Date: 7/3/24.

Accession Number: 20240703-5061.

Comment Date: 5 p.m. ET 7/24/24.

Docket Numbers: ER24-2459-000.

Applicants: Tenaska Virginia Partners, L.P.

Description: Compliance filing: Informational Filing Regarding Upstream Transfer of Ownership to be effective 7/4/2024.

Filed Date: 7/3/24.

Accession Number: 20240703-5078.

Comment Date: 5 p.m. ET 7/24/24.

Docket Numbers: ER24-2460-000.

Applicants: Idaho Power Company.

Description: 205(d) Rate Filing: IPC/Powerex Transmission Service Agreements Nos. 532-535 to be effective 12/31/9998.

Filed Date: 7/3/24.

Accession Number: 20240703-5086.

Comment Date: 5 p.m. ET 7/24/24.

Docket Numbers: ER24-2461-000.

Applicants: PJM Interconnection, L.L.C.

Description: 205(d) Rate Filing: Original GIA, Service Agreement No. 7302; AF1-272 to be effective 6/3/2024.

Filed Date: 7/3/24.

Accession Number: 20240703-5087.

Comment Date: 5 p.m. ET 7/24/24.

Docket Numbers: ER24-2462-000.

Applicants: Versant Power.

Description: Versant Power submits Petition for Partial Waiver of Order No. 1920.

Filed Date: 7/2/24.

Accession Number: 20240702-5233.

Comment Date: 5 p.m. ET 7/23/24.

Docket Numbers: ER24-2464-000.

Applicants: Alabama Power Company, Georgia Power Company, Mississippi Power Company.

Description: 205(d) Rate Filing: Alabama Power Company submits tariff filing per 35.13(a)(2)(iii: SR Lincoln (Lincoln Solar) LGIA Filing to be effective 6/21/2024.

Filed Date: 7/3/24.

Accession Number: 20240703-5103.

Comment Date: 5 p.m. ET 7/24/24.

Docket Numbers: ER24-2465-000.

Applicants: Public Service Company of New Mexico.

Description: 205(d) Rate Filing: Large Generator Interconnection Agreements to be effective 9/2/2024.

Filed Date: 7/3/24.

Accession Number: 20240703-5128.

Comment Date: 5 p.m. ET 7/24/24.

Docket Numbers: ER24-2466-000.

Applicants: NorthWestern Corporation.

Description: 205(d) Rate Filing: RS 336 Certificate of Concurrence to Dynamic Transfer BA to be effective 7/2/2024.

Filed Date: 7/3/24.

Accession Number: 20240703-5145.

Comment Date: 5 p.m. ET 7/24/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: July 3, 2024.
Debbie-Anne A. Reese,
Acting Secretary.

[FR Doc. 2024-15191 Filed 7-10-24; 8:45 am]

BILLING CODE 6717-01-P